DEPARTMENT OF LABOR

Mine Safety and Health Administration

30 CFR Parts 56, 57, 60, 70, 71, 72, 75, and 90

[Docket No. MSHA-2023-0001]

RIN 1219-AB36

Lowering Miners' Exposure to Respirable Crystalline Silica and Improving Respiratory Protection; Correction

AGENCY: Mine Safety and Health Administration (MSHA), Department of Labor.

ACTION: Final rule; correction.

SUMMARY: The Mine Safety and Health Administration (MSHA) is correcting typographical and printing errors in the “Lowering Miners' Exposure to Respirable Crystalline Silica and Improving Respiratory” final rule that was published in the Federal Register on April 18, 2024. The April 2024 final rule amended the Agency's existing standards to better protect miners against occupational exposure to respirable crystalline silica, a significant health hazard, and to improve respiratory protection for miners from exposure to airborne contaminants.

DATES: These corrections are effective June 24, 2024, and applicable beginning June 17, 2024.

FOR FURTHER INFORMATION CONTACT: S. Aromie Noe, Director, Office of Standards, Regulations, and Variances, MSHA, at: silicaquestions@dol.gov (email); 202-693-9440 (voice); or 202-693-9441 (facsimile). These are not toll-free numbers.

SUPPLEMENTARY INFORMATION: In a final rule published April 18, 2024, at 89 FR 28218, MSHA amended the Agency's existing standards to better protect miners against occupational exposure to respirable crystalline silica, a significant health hazard, and to improve respiratory protection for miners from exposure to airborne contaminants. This document corrects parts of the rule's preamble. Some general typographical errors occurred in publication, which the Office of the Federal Register was able to correct without publishing a correcting amendment, including misrepresenting a reserved paragraph (c) in § 70.208T, which was correctly incorporated into the CFR on June 17, 2024, the April rule's effective date.

Corrections

In (FR Doc. 2024-06920) appearing on page 28218 in the Federal Register of Thursday, April 18, 2024), the following corrections are made:

1. On page 28218, in the first column, the SUMMARY is corrected to read “The Mine Safety and Health Administration (MSHA) is amending its existing standards to better protect miners against occupational exposure to respirable crystalline silica, a significant health hazard, and to improve respiratory protection for miners from exposure to airborne contaminants. MSHA is establishing a uniform permissible exposure limit for respirable crystalline silica at 50 micrograms per cubic meter of air (µg/m³) for a full-shift exposure, calculated as an 8-hour time-weighted average, for all miners. MSHA's final rule also includes other requirements to protect miner health, such as exposure sampling, corrective actions to be taken when a miner's exposure exceeds the permissible exposure limit, and medical surveillance for metal and nonmetal mines.”

2. On page 28264, in the first column, in the first complete paragraph, the sentence, “In general form, the relative rate model was: Rate = exp(α0) × ƒ(E), where exp(a0) is the background rate and E is the cumulative respirable crystalline silica exposure.” is corrected to read, “In general form, the relative rate model was: Rate = exp(α0) × ƒ(E), where exp (α0) is the background rate and E is the cumulative respirable crystalline silica exposure.”

3. On page 28299, “Table VII-4: Percentage Distribution of Respirable Crystalline Silica Exposures as ISO 8-hour TWA in the Coal Industry from 2016 to 2021, by Location” is removed and “Table VII-10: Estimated Annualized Compliance Costs as Percent of Mine Revenues (in millions of 2022 dollars), by Sector” is added in its place to read as follows:

Table VII-10—Estimated Annualized Compliance Costs as Percent of Mine Revenues (in Millions of 2022 Dollars), by Sector
Mine sector | 2019 revenues inflated to 2022 dollars | Annualized costs 0 percent discount rate: Compliance costs | Annualized costs 0 percent discount rate: Cost as % of revenues | Annualized costs 3 percent discount rate: Compliance costs | Annualized costs 3 percent discount rate: Cost as % of revenues | Annualized costs 7 percent discount rate: Compliance costs | Annualized costs 7 percent discount rate: Cost as % of revenues
30 CFR Part 60 Costs
Total | $124,169 | $87.59 | 0.07 | $89.05 | 0.07 | $91.07 | 0.07
Metal/Nonmetal | 95,070 | 80.12 | 0.08 | 81.41 | 0.09 | 83.14 | 0.09
Coal | 29,099 | 7.46 | 0.03 | 7.64 | 0.03 | 7.93 | 0.03
30 CFR Part 60 + 2019 ASTM Upgrade Costs
Total | 124,169 | 88.77 | 0.07 | 90.28 | 0.07 | 92.39 | 0.07
Metal/Nonmetal | 95,070 | 80.75 | 0.08 | 82.06 | 0.09 | 83.84 | 0.09
Coal | 29,099 | 8.02 | 0.03 | 8.22 | 0.03 | 8.55 | 0.03

Christopher J. Williamson,
Assistant Secretary of Labor for Mine Safety and Health.

[FR Doc. 2024-13510 Filed 6-21-24; 8:45 am]

BILLING CODE 4520-43-P